DEPARTMENT OF COMMERCE

International Trade Administration

[A-570-985]

Xanthan Gum From the People's Republic of China: Final Results of the Expedited First Sunset Review of the Antidumping Duty Order

AGENCY: Enforcement and Compliance, International Trade Administration, Department of Commerce.

SUMMARY: As a result of this first sunset review, the Department of Commerce (Commerce) finds that revocation of the antidumping duty order on xanthan gum from the People's Republic of China (China) would be likely to lead to continuation or recurrence of dumping, at the level indicated in the “Final Results of Sunset Review” section of this notice.

DATES: Applicable September 26, 2018.

FOR FURTHER INFORMATION CONTACT: Magd Zalok or Howard Smith, AD/CVD Operations, Office IV, Enforcement and Compliance, International Trade Administration, U.S. Department of Commerce, 1401 Constitution Avenue NW, Washington, DC 20230; telephone: (202) 482-4162 or (202) 482-5193, respectively.

SUPPLEMENTARY INFORMATION:

Background

On July 19, 2013, Commerce published in the Federal Register the antidumping duty order on xanthan gum from China.¹ On June 1, 2018, Commerce published the notice of initiation of this sunset review of the Order, pursuant to section 751(c) of the Tariff Act of 1930, as amended (the Act).² On June 15, 2018, and June 18, 2018, pursuant to 19 CFR 351.218(d)(1)(i), Commerce received timely and complete notices of intent to participate in the sunset review from domestic producers of xanthan gum, Archer Daniels Midland Company (ADM) and CP Kelco U.S., Inc. (CP Kelco), respectively.³ On July 2, 2018, pursuant to 19 CFR 351.218(d)(3)(i), ADM and CP Kelco filed a timely and adequate substantive response.⁴ Commerce did not receive a substantive response from any respondent interested party. As a result, pursuant to section 751(c)(3)(B) of the Act and 19 CFR 351.218(e)(1)(ii)(C)(2), we conducted an expedited (120-day) first sunset review of the Order.

¹ See Xanthan Gum from the People's Republic of China: Amended Final Determination of Sales at Less Than Fair Value and Antidumping Duty Order, 78 FR 43143 (July 19, 2013) (Order).

² See Initiation of Five-Year (Sunset) Reviews, 83 FR 25436 (June 1, 2018).

³ See Letter from ADM to Commerce re, “Five-Year (“Sunset”) Review Of Antidumping Duty Order On Xanthan Gum From The People's Republic Of China/Domestic Industry Notice Of Intent To Participate In Sunset Review,” dated June 15, 2018, and Letter from CP Kelco to Commerce re, “Xanthan Gum from the People's Republic of China: CP Kelco U.S., Inc.'s Notice Of Intent To Participate,” dated June 18, 2018.

⁴ See Letter from ADM and CP Kelco to Commerce re, “Five-Year (Sunset) Review of Antidumping Duty Order On Xanthan Gum From the People's Republic of China/Domestic Industry Substantive Response,” dated July 2, 2018 (ADM and CP Kelco Substantive Response).

Scope of the Order

The product covered by the Order includes dry xanthan gum, whether or not coated or blended with other products. Xanthan gum is included in this order regardless of physical form, including, but not limited to, solutions, slurries, dry powders of any particle size, or unground fiber.

Merchandise covered by the scope of the Order is classified in the Harmonized Tariff Schedule of the United States at subheading 3913.90.20.15. This tariff classification is provided for convenience and customs purposes; however, the written description of the scope is dispositive.⁵

⁵ For the complete scope language, see “Issues and Decision Memorandum for the Expedited First Sunset Review of the Antidumping Duty Order on Xanthan Gum from the People's Republic of China,” (Issues and Decision Memorandum), dated concurrently with and hereby adopted by this notice.

Analysis of Comments Received

A complete discussion of all issues raised in this sunset review, specifically the likelihood of continuation or recurrence of dumping and the magnitude of the margin likely to prevail if the Order were to be revoked, is provided in the accompanying Issues and Decision Memorandum, which is hereby adopted by this notice.⁶ The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed at http://enforcement.trade.gov/frn/. The signed Issues and Decision Memorandum and the electronic version of the Issues and Decision Memorandum are identical in content.

⁶ See Issues and Decision Memorandum.

Final Results of Sunset Review

Pursuant to sections 751(c)(1) and 752(c)(1) and (3) of the Act, we determine that revocation of the Order would likely lead to continuation or recurrence of dumping, and that the magnitude of the dumping margins likely to prevail would be weighted-average dumping margins up to 154.07 percent.⁷

⁷ See Xanthan Gum from the People's Republic of China: Final Determination of Sales at Less Than Fair Value, 78 FR 33351 (June 4, 2013) (Final Determination), unchanged in Xanthan Gum from the People's Republic of China: Amended Final Determination of Sales at Less Than Fair Value and Antidumping Duty Order, 78 FR 43143 (July 19, 2013) (Order).

Notification Regarding Administrative Protective Orders

This notice serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act and 19 CFR 351.218.

Dated: September 19, 2018.
Christian Marsh,
Deputy Assistant Secretary for Enforcement and Compliance.

[FR Doc. 2018-20844 Filed 9-25-18; 8:45 am]

BILLING CODE 3510-DS-P